DEPARTMENT OF HOMELAND SECURITY

Federal Emergency Management Agency

[Docket ID FEMA-2025-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having an effect in order to qualify or remain qualified for participation in the Federal Emergency Management Agency's (FEMA's) National Flood Insurance Program (NFIP).

DATES: The date of December 11, 2025 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: David Bascom, Acting Director, Engineering and Modeling Division, Risk Analysis, Planning & Information Directorate, FEMA, 400 C Street SW, Washington, DC 20472, or (email) david.bascom@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Jeffrey Jackson,
Deputy Assistant Administrator, Federal Insurance Directorate, Resilience, Federal Emergency Management Agency, Department of Homeland Security.

Community | Community map repository address
Siskiyou County, California and Incorporated Areas
Docket No.: FEMA-B-2457
City of Etna | City Hall, 442 Main Street, Etna, CA 96027.
Town of Fort Jones | Town Hall, 11960 East Street, Fort Jones, CA 96032.
Unincorporated Areas of Siskiyou County | Siskiyou County Planning Department, 806 South Main Street, Yreka, CA 96097.
Brunswick County, Virginia and Incorporated Areas
Docket No.: FEMA-B-2442
Town of Alberta | Municipal Office, 136 West First Street, Alberta, VA 23821.
Town of Lawrenceville | Municipal Building, 400 North Main Street, Lawrenceville, VA 23868.
Unincorporated Areas of Brunswick County | Brunswick County Government Building, 228 North Main Street, Lawrenceville, VA 23868.
Greensville County, Virginia and Incorporated Areas
Docket No.: FEMA-B-2441
City of Emporia | City Hall, 201 South Main Street, Emporia, VA 23847.
Town of Jarratt | Town Hall, 108 South Braxton Avenue, Jarratt, VA 23867.
Unincorporated Areas of Greensville County | Greensville County Government Center, 1781 Greensville County Circle, Emporia, VA 23847.
Auglaize County, Ohio and Incorporated Areas
Docket No.: FEMA-B-2412
City of Saint Marys | City Hall, 101 East Spring Street, Saint Marys, OH 45885.
City of Wapakoneta | City Hall, 701 Parlette Court, Wapakoneta, OH 45895.
Unincorporated Areas of Auglaize County | Auglaize County Engineer's Office, 1014 South Blackhoof Street, Wapakoneta, OH 45895.
Village of Buckland | Administration Building, 100 Old Tile Mill Road, Buckland, OH 45819.
Village of Minster | Administration Building, 5 West 4th Street, Minster, OH 45865.
Village of New Bremen | Village Office, 214 North Washington Street, New Bremen, OH 45869.
Village of New Knoxville | Municipal Building, 101 South Main Street, New Knoxville, OH 45871.

[FR Doc. 2025-14879 Filed 8-5-25; 8:45 am]

BILLING CODE 9110-12-P